DEPARTMENT OF TRANSPORTATION

Federal Aviation Administration

[Summary Notice No. 2018-42]

Petition for Exemption; Summary of Petition Received; Headquarters Air Force Junior Reserve Officer Training Corps

AGENCY: Federal Aviation Administration (FAA), DOT.

ACTION: Notice.

SUMMARY: This notice contains a summary of a petition seeking relief from 14 CFR part 61.103(a), Eligibility requirements, which states in pertinent part that to be eligible for a private pilot certificate, a person must be at least 17 years of age for a rating other than a glider or balloon. The purpose of this notice is to improve the public's awareness of, and participation in, the FAA's exemption process. Neither publication of this notice nor the inclusion or omission of information in the summary is intended to affect the legal status of the petition or its final disposition.

DATES: Comments on this petition must identify the petition docket number and must be received on or before September 6, 2018.

ADDRESSES: Send comments identified by docket number FAA-2018-0175 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Brent Hart (202) 267-4034, Office of Rulemaking, Federal Aviation Administration, 800 Independence Avenue SW, Washington, DC 20591.

This notice is published pursuant to 14 CFR 11.85.

Issued in Washington, DC, on August 9, 2018.
Lirio Liu,
Executive Director, Office of Rulemaking.

Petition for Exemption

Docket No.: FAA-2018-0175.

Petitioner: Headquarters Air Force Junior Reserve Officer Training Corps.

Section(s) of 14 CFR Affected: 61.103(a).

Description of Relief Sought: The United States Air Force (USAF) is seeking an exemption to allow 16-year-old Junior Reserve Officer Training Corps (JROTC) cadets to qualify for a private pilot certificate under the HQ Air Force JROTC Flight Academy scholarship program. The USAF states that it is petitioning the FAA for an exemption because the selection board can only qualify a limited number of high school sophomores due to the 17-year-old minimum age requirement for private pilot applicants. The USAF further states that the 7- to 9-week flight academy private pilot training program is accomplished between the sophomore and junior years of high school. According to the USAF, allowing 16-year-olds to qualify would increase the cadet candidate pool by 75%, thereby improving the quality of the candidates who could be selected.

[FR Doc. 2018-17769 Filed 8-16-18; 8:45 am]

BILLING CODE 4910-13-P